DEPARTMENT OF THE TREASURY

Submission for OMB Review; Comment Request

ACTION: Notice; correction.

SUMMARY: The Department of the Treasury published a document in the Federal Register on April 12, 2011, inviting comments on collections of information submitted to the Office of Management and Budget (OMB) for review. This document contained incorrect references.

Correction

In the Federal Register of April 12, 2011, in FR Doc. 2011-8675, make the following corrections:

• Page 20449, in the second column, under OMB Number: 1545-1800, Type of Review: replace “Extension without change” with “Revision”.

• Page 20449, in the second column, under OMB Number: 1545-1800, Estimated Total Burden Hours: replace “9,112” with “913,698”.

• Page 20449, in the second column, under OMB Number: 1545-2098, Type of Review: replace “Extension without change” with “Revision”.

• Page 20449, in the second column, under OMB Number: 1545-2098, Estimated Total Burden Hours: replace “4” with “1,000”.

Dated: May 2, 2011.
Dawn D. Wolfgang,
Treasury PRA Clearance Officer.

[FR Doc. 2011-10948 Filed 5-4-11; 8:45 am]

BILLING CODE 4830-01-P